DEPARTMENT OF HOMELAND SECURITY

Coast Guard

33 CFR Part 100

[Docket No. USCG-2022-0835]

Safety Zone; Battle of the Basin Boat Races Morgan City, LA

AGENCY: Coast Guard, Department of Homeland Security (DHS).

ACTION: Notification of enforcement of regulation.

SUMMARY: The Coast Guard will enforce the regulations for the Battle of the Basin Boat Races set forth in our regulations regarding Annual Marine Events in the Eighth Coast Guard District between mile marker (MM) 4 and MM 5 on the Morgan City, Port Allen Route, Louisiana (LA). This action is necessary to provide for the safety of life on these navigable waters near Morgan City, LA during high speed boat races on October 29, 2022 and October 30, 2022. During the enforcement periods, the operator of any vessel in the regulated area must comply with directions from the local Patrol Commander.

DATES: The regulations in 33 CFR 100.801 will be enforced from 10 a.m. to 6 p.m. on October 29, 2022, and October 30, 2022.

FOR FURTHER INFORMATION CONTACT: If you have questions about this notification of enforcement, call or email Lieutenant Jenelle Piché, Marine Safety Unit (MSU) Morgan City, U.S. Coast Guard; telephone 985-855-0724, email Jenelle.L.Piche@uscg.mil.

SUPPLEMENTARY INFORMATION: The Coast Guard will enforce the regulations set forth in 33 CFR 100.801 for the Battle of the Basin Boat Races. The regulations will be enforced from 10 a.m. to 6 p.m. on October 29, 2022, and October 30, 2022. This action is being taken to provide for the safety of life on navigable waterways during this event, which will be located between MM 4 and MM 5 on the Morgan City, Port Allen Route, LA. During the enforcement periods, if you are the operator of a vessel in the regulated area you must comply with the regulations set forth in 33 CFR 100.801.

In addition to this notification of enforcement in the Federal Register, the Coast Guard plans to provide notification of this enforcement period via a Safety Marine Information Broadcast and Broadcast Notice to Mariners.

Dated: September 29, 2022.
L.T. O'Brien,
Captain, U.S. Coast Guard, Captain of the Port Houma.

[FR Doc. 2022-21871 Filed 10-6-22; 8:45 am]

BILLING CODE 9110-04-P